DEPARTMENT OF THE TREASURY

Submission for OMB Review; Comment Request

November 13, 2008.

The Department of the Treasury will submit the following public information collection requirement(s) to OMB for review and clearance under the Paperwork Reduction Act of 1995, Public Law 104-13 on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 22, 2008 to be assured of consideration.

Community Development Financial Institutions Fund

OMB Number: 1559-0005.

Type of Review: Reinstatement with Change.

Title: Bank Enterprise Award Program Application.

Form: CDFI-0002.

Description: The BEA Program provides incentives to insured depository institutions to increase their support of CDFIs and their activities in economically distressed communities.

Respondents: Businesses and other for-profit institutions.

Estimated Total Burden Hours: 900 hours.

Clearance Officer: Ashanti McCallum (202) 622-9018, Community Development Financial Institutions Fund, Department of the Treasury, 601 13th Street, NW., Suite 200 South, Washington, DC 20005.

OMB Reviewer: Nicolas Fraser (202) 395-5887, Office of Management and Budget, Room 10235, New Executive Office Building, Washington, DC 20503.

Robert Dahl,
Treasury PRA Clearance Officer.

[FR Doc. E8-27627 Filed 11-19-08; 8:45 am]

BILLING CODE 4810-70-P